DEPARTMENT OF HEALTH AND HUMAN SERVICES

Administration for Children and Families

Submission for OMB Review; Annual Statistical Report on Children in Foster Homes and Children in Families Receiving Payment in Excess of the Poverty Income Level From a State Program Funded Under Part A of Title IV of the Social Security Act (OMB #0970-0004)

AGENCY: Office of Family Assistance, Administration for Children and Families, HHS.

ACTION: Request for public comment.

SUMMARY: The Office of Family Assistance (OFA), Administration for Children and Families, is requesting a 3-year extension of the form ACF-4125: Annual Report on Children in Foster Homes and Children in Families Receiving Payment in Excess of the Poverty Income Level from a State Program Funded Under Part A of Title IV of the Social Security Act (OMB #0970-0004, expiration 3/21/2021). There are no changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The Elementary and Secondary Education Act of 1965 (ESEA), section 1124 of Title I, as amended by Public Law 114-95, requires the Secretary of Health and Human Services to determine the number of children aged 5 to 17, inclusive, that (1) are being supported in foster homes with public funds; or (2) are from families receiving assistance payments in excess of the current poverty income level for a family of four. The information gathered is to be passed on to the Secretary of Education for purposes of allocating grants authorized under this law. The statute requires that the formula to allocate these grants and distribute funds be based, in part, on October caseload data on the number of children in foster care or in families receiving payments from state programs funded under Title IV-A of the Social Security Act [Temporary Assistance for Needy Families]. The purpose of this annual survey is to provide annually updated data so that funds may be allocated in accordance with the ESEA.

Respondents: State agencies (including the District of Columbia and Puerto Rico) administering child welfare and public assistance programs.

Annual Burden Estimates
Instrument | Total number of respondents | Annual number of responses per respondent | Average burden hours per response | Total annual burden hours
Annual Report on Children in Foster Homes and Children Receiving Payments | 52 | 1 | 264.35 | 13,746.20

Estimated Total Annual Burden Hours: 13,746.20.

Authority: Pub. L. 107-110 Sec: 1124(c)(4) and Pub. L. 104-193 Sec: 110(j).

Mary B. Jones,
ACF/OPRE Certifying Officer.

[FR Doc. 2021-05413 Filed 3-15-21; 8:45 am]

BILLING CODE 4184-36-P